DEPARTMENT OF ENERGY

Federal Energy Regulatory Commission

[Project No. 2607-016]

Spencer Mountain Hydropower, LLC; Notice of Revised Procedural Schedule for Environmental Assessment for the Proposed Project Relicense

On June 26, 2023, Spencer Mountain Hydropower, LLC (Spencer Mountain Hydropower) filed an application to relicense the 0.64-megawatt Spencer Mountain Hydroelectric Project No. 2607 (Spencer Mountain Project or project). On March 24, 2025, Commission staff issued a notice of intent to prepare an environmental assessment (EA) to evaluate the effects of relicensing the Spencer Mountain Project. The notice included an anticipated schedule for issuing the EA.¹

¹ For tracking purposes under the National Environmental Policy Act, the unique identification number for documents relating to this environmental review is EAXX-019-20-000-1742805952.

Staff is still evaluating the effects of relicensing the project; therefore, the procedural schedule for completing the EA is being revised as follows. Further revisions to the schedule may be made as appropriate.

Milestone | Target date
Issue EA | February 17, 2026.

Any questions regarding this notice may be directed to David Gandy at 202-502-8560, or david.gandy@ferc.gov.

Dated: May 12, 2025.
Debbie-Anne A. Reese,
Secretary.

[FR Doc. 2025-08836 Filed 5-16-25; 8:45 am]

BILLING CODE 6717-01-P